DEPARTMENT OF HEALTH AND HUMAN SERVICES

Centers for Disease Control and Prevention

[60Day-17-17ZX; Docket No. CDC-2017-0032]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on “Childhood Blood Lead Surveillance (CBLS) and Adult Blood Lead Epidemiology and Surveillance (ABLES).” The National Center for Environmental Health (NCEH) is leading a new three-year information collection request (ICR) that covers two CDC information collections, one for childhood blood lead surveillance by NCEH and another for adult blood lead surveillance by the National Institute for Occupational Safety and Health (NIOSH). CDC requests an annual time burden of 1,120 burden hours for both collections.

DATES: Written comments must be received on or before June 5, 2017.

ADDRESSES: You may submit comments, identified by Docket No. CDC-2017-0032 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Childhood Blood Lead Surveillance (CBLS) and Adult Blood Lead Epidemiology and Surveillance (ABLES)—New—National Center for Environmental Health (NCEH), Centers for Disease Control and Prevention (CDC).

Background and Brief Description

The National Center for Environmental Health (NCEH) is leading a new three-year information collection request (ICR) that covers two Centers for Disease Control and Prevention (CDC) information collections, one for childhood blood lead surveillance by NCEH and another for adult blood lead surveillance by the National Institute for Occupational Safety and Health (NIOSH).

The goal of the NCEH Childhood Blood Lead Surveillance (CBLS) Program is to support blood lead screening and to promote primary prevention of exposure to lead. Also, the CBLS Program supports secondary prevention of adverse health effects when lead exposures occur in children through improved program management and oversight in respondent jurisdictions. The goal of the NIOSH Adult Blood Lead Epidemiology and Surveillance (ABLES) Program is to build state capacity for adult blood lead surveillance programs to measure trends in adult blood lead levels and to prevent lead over-exposures. Thus, blood lead surveillance over the human lifespan is covered under this single information collection request (ICR), specifically for children, less than 16 years, through CBLS at NCEH, and for adults, 16 years and older, through ABLES at NIOSH.

NCEH is announcing a new three-year cooperative agreement, titled “Lead Poisoning Prevention—Childhood Lead Poisoning Prevention—financed partially by Prevention and Public Health Funds” (Funding Opportunity Announcement [FOA] No. CDC-RFA-EH17-1701-PPHF17). The first year of this new program will run concurrently with the final and fourth budget year for “PPHF 2014: Lead Poisoning Prevention—Childhood Lead Poisoning Prevention—financed solely by 2014 Prevention and Public Health Funds” (FOA No. CDC-RFA-EH14-1408PPHF14). The four-year FY14 cooperative agreement program has an existing Paperwork Reduction Act (PRA) clearance titled “Healthy Homes and Lead Poisoning Surveillance System (HHLPSS)” (OMB Control No. 0920-0931; expiration date 05/31/2018), which will be extended through the end of the FY14 program and then discontinued.

In addition to the overlap in program periods, there are sufficient program differences to justify a new ICR for the FY17 NCEH cooperative agreement. For FY17, NCEH is requesting approval for the following: (1) Clarifying partners' procedures for data delivery into the Childhood Blood Lead Surveillance (CBLS) system; (2) revising the CBLS Variables form to remove healthy homes variables, which will not be collected, and adding three new CBLS indicator variables. Based on available FY17 funds, NCEH is also requesting the following: (3) Increasing the number of potential NCEH respondents from 40 to 50; and (4) increasing the NCEH annual time burden from 640 to 800 hours.

CDC is also taking this opportunity to provide the public with a detailed description of the NIOSH ABLES information collection. Previously, ABLES was mentioned but not described in the HHLPSS ICR (OMB Control No. 0920-0931; expiration date 05/31/2018). Thus, NIOSH is requesting approval for the following: (1) Providing a detailed description of the authority and scope of the ABLES information reporting procedures; (2) adding 40 NIOSH respondents to the burden table; and (3) adding 320 hours for the NIOSH annual time burden. Once approved in this new ICR, CDC will submit a change request to remove ABLES from the existing HHLPSS ICR to avoid duplication in PRA clearance.

Over the past several decades there have been substantial efforts in environmental lead abatement, improved protection from occupational lead exposure, and a reduction in the prevalence of population BLLs over time. The U.S. population BLLs have substantially decreased over the last four decades. For example, the CDC has reported the 1976-1980 U.S. BLL mean in children, 6 months to 5 years, as 16.0 micrograms per deciliter (µg/dL); and among adults, 18 to 74 years, 14.1 µg/dL. More recently, the CDC reported the 2009-2010 U.S. BLL geometric means among children, 1 to 5 years, and among adults, 20 years and older, as 1.2 µg/dL for both age groups.

In 2012, the National Toxicology Program (NTP) concluded that there is sufficient evidence that BLLs at less than 10 µg/dL and at less than 5 µg/dL are associated with adverse health effects in both children, less than 18 years, and in adults, 18 years and older. Despite the reduction in the overall population BLL over four decades, lead exposures continue to occur at unacceptable levels for individuals in communities and workplaces across the nation. Surveillance will continue through CBLS and ABLES to identify cases of elevated BLLs when primary prevention is not achieved. As of 2015, NCEH and NIOSH define elevated BLLs as greater than or equal to 5 µg/dL for individuals of all ages.

Respondents are defined as state, local, and territorial health departments with lead poisoning prevention programs. The estimated annual time burden for NCEH CBLS is 800 hours. The estimated annual time burden for NIOSH ABLES is 320 hours. In total, CDC is requesting approval for a total annual time burden of 1,120 hours.

Estimated Annualized Burden Hours
Type of respondents | Form name | Number of respondents | Number of responses per respondent | Average burden per response (in hrs.) | Total burden (in hrs.)
State, Local, and Territorial Health Departments | Childhood Blood Lead Surveillance (CBLS) Variables | 50 | 4 | 4 | 800
| Adult Blood Lead Epidemiology and Surveillance (ABLES) Variables | 40 | 1 | 8 | 320
Total |  |  |  |  | 1,120

Leroy A. Richardson,
Chief, Information Collection Review Office, Office of Scientific Integrity, Office of the Associate Director for Science, Office of the Director, Centers for Disease Control and Prevention.

[FR Doc. 2017-06867 Filed 4-5-17; 8:45 am]

BILLING CODE 4163-18-P